CONSUMER PRODUCT SAFETY COMMISSION

Publicly Available Consumer Product Safety Information Database: Notice of Public Web Conferences

AGENCY: Consumer Product Safety Commission.

ACTION: Notice.

SUMMARY: The Consumer Product Safety Commission (“Commission,” “CPSC,” or “we”) is announcing two Web conferences to demonstrate to interested stakeholders the incident reporting form, industry registration and comment features, and the search function of the publicly available consumer product safety information database (“Database”). The Web conferences will be webcast live from the Commission's headquarters in Bethesda, MD via the Internet on January 11, 2011, and January 20, 2011. Stakeholders may participate in person or online.

DATES: The first Web conference will be held from 10:30 a.m. to 12:30 p.m. on Tuesday, January 11, 2011, and the second Web conference will be held from 10:30 a.m. to 12:30 p.m. on Thursday, January 20, 2011.

ADDRESSES: The Web conferences will be webcast from the CPSC's headquarters at the Bethesda Towers Building, 4330 East West Highway, Bethesda, MD 20814. Persons interested in attending either Web conference in person should register in advance online at http://www.cpsc.gov/meetingsignup.html. Persons interested in participating online via the webcast should register in advance for the January 11th Web conference online at http://www3.gotomeeting.com/register/757140102, and for the January 20th Web conference online at http://www3.gotomeeting.com/register/396775014. Registration for in person or online attendance of either Web conference can also be completed by sending an electronic mail (e-mail), calling, or writing to Todd A. Stevenson, Office of the Secretary, Consumer Product Safety Commission, 4330 East West Highway, Bethesda, MD 20814; e-mail cpsc-os@cpsc.gov; telephone (301) 504-7923; facsimile (301) 504-0127. The CPSC Web link also has more information about each Web conference.

FOR FURTHER INFORMATION CONTACT: Ming Zhu, Office of Information & Technology Services, Consumer Product Safety Commission, 4330 East West Highway, Bethesda, MD 20814; mzhu@cpsc.gov; telephone (301) 504-7517.

SUPPLEMENTARY INFORMATION: Section 212 of the Consumer Product Safety Improvement Act of 2008 (Pub. L. 110-314) (“CPSIA”) requires the Commission to establish and maintain a product safety information database that is available to the public. Specifically, section 212 of the CPSIA amended the Consumer Product Safety Act (“CPSA”) to create a new section 6A of the CPSA, titled “Publicly Available Consumer Product Safety Information Database” (“Database”). Section 6A(a)(1) of the CPSA requires the Commission to establish and maintain a database on the safety of consumer products, and other products or substances regulated by the Commission. The Database must be publicly available, searchable, and accessible through the Commission's Web site.

In the Federal Register of December 9, 2010 (75 FR 76832), we published a final rule to establish the Database. The final rule will become effective on January 10, 2011.

Through this notice, we are announcing that we will conduct two Web conferences to demonstrate certain aspects of the Database. The first Web conference, which will be held on January 11, 2011, will focus on the incident form that the public will use to file a report of harm and the search function of the Database. The Web conference is intended to inform all interested stakeholders of the information required on the form to be used to report an incident, in addition to an explanation of the public search function of the Database.

The second Web conference, which will be held on January 20, 2011, will focus on the industry registration and comment features, the process for reporting incidents, and the public search component of the Database.

Persons interested in viewing either Web conference or attending a webcast in person should register in advance as explained in the ADDRESSES section of this notice. The CPSC Web link at http://www.cpsc.gov/meetingsignup.html has more information about the demonstrations.

Dated: January 3, 2011.
Todd A. Stevenson,
Secretary, Consumer Product Safety Commission.

[FR Doc. 2011-120 Filed 1-6-11; 8:45 am]

BILLING CODE 6355-01-P